DEPARTMENT OF ENERGY

Federal Energy Regulatory Commission

[Project No. 2376-052]

Eagle Creek Reusens Hydro, LLC; Notice Of Reasonable Period of Time for Water Quality Certification Application

On September 4, 2025, the Virginia Department of Environmental Quality (Virginia DEQ) submitted to the Federal Energy Regulatory Commission (Commission) notice that it received a request for a Clean Water Act section 401(a)(1) water quality certification as defined in 40 CFR 121.5, from Eagle Creek Reusens Hydro, LLC, in conjunction with the above captioned project on August 27, 2025.¹ Pursuant to the Commission's regulations,² we hereby notify Virginia DEQ of the following:

¹ See Email correspondence with the Virginia Department of Environmental Quality concerning the status of the Section 401 water quality certification application, filed September 18, 2025.

² 18 CFR 4.34(b)(5)(iii).

Date of Receipt of the Certification Request: August 27, 2025.

Reasonable Period of Time to Act on the Certification Request: One year (August 27, 2026).

If Virginia DEQ fails or refuses to act on the water quality certification request on or before the above date, then the certifying authority is deemed waived pursuant to section 401(a)(1) of the Clean Water Act, 33 U.S.C. 1341(a)(1).

Dated: September 26, 2025.
Debbie-Anne A. Reese,
Secretary.

[FR Doc. 2025-19161 Filed 9-30-25; 8:45 am]

BILLING CODE 6717-01-P